DEPARTMENT OF TRANSPORTATION

Maritime Administration

46 CFR Part 356

[Docket Number MARAD-2025-0091]

RIN 2133-AB91

Deregulatory—American Fisheries Act Program Update; Simplifying the Application Process

AGENCY: Maritime Administration (MARAD), Department of Transportation (DOT)

ACTION: Notice of proposed rulemaking, request for comments.

SUMMARY: On May 1, 2019, MARAD published an Advanced Notice of Proposed Rulemaking (ANPRM), titled “How Best to Simplify Filing Statements of American Fisheries Act Citizenship: Policy and Regulatory Review,” soliciting public comment on steps MARAD could take to simplify and modernize the process for evidencing U.S. citizenship for owners of U.S.-flag fishing industry vessels of 100 feet or greater in registered length. In response to public support for updating our regulations, MARAD is soliciting public comments on this Notice of Proposed Rulemaking (NPRM). Consistent with comments received, the proposed rule would simplify the annual citizenship filing procedures under the American Fisheries Act (AFA) program in order to reduce costs or administrative burdens placed on owners of fishing industry vessels. MARAD proposes (1) to simplify and streamline annual renewal filing for vessel owners whose citizenship information has not changed since their affidavit of U.S. citizenship (AFA Affidavit) filing; (2) to update acceptable methods for evidencing citizenship of publicly traded entities; and (3) to eliminate requirements to provide personally identifiable information (i.e., social security numbers and dates and places of birth for corporate officers and directors) in affidavits of AFA citizenship.

DATES: Comments should be filed on or before September 2, 2025. Late-filed comments filed will be considered to the extent practicable.

ADDRESSES: You may submit comments identified by DOT Docket Number MARAD-2025-0091 by any of the following methods:

• Federal eRulemaking Portal: www.regulations.gov. Search using the DOT Docket Number (see above) and follow the instructions for submitting comments.

• Email: Rulemakings.MARAD@dot.gov. Include the DOT Docket Number in the subject line of the message.

• Mail/Hand-Delivery/Courier: Docket Management Facility; U.S. Department of Transportation, 1200 New Jersey Avenue SE, Room W12-140, Washington, DC 20590. If you would like to know that your comments reached the facility, please enclose a stamped, self-addressed postcard or envelope. The Docket Management Facility is open 9:00 a.m. to 5:00 p.m., Monday through Friday, except on federal holidays.

Note: We recommend that you include your name and a mailing address, an email address, or a telephone number in the body of your document so that we can contact you if we have questions regarding your submission. If you submit your inputs by mail or hand-delivery, they must be submitted in an unbound format, no larger than 8½ by 11 inches, single-sided, suitable for copying and electronic filing. All submissions received should include the agency name and docket number or Regulation Identifier Number (RIN) for this rulemaking.

Instructions: All comments received will be posted without change to the docket at www.regulations.gov, including any personal information provided. For detailed instructions on submitting comments and additional information on the rulemaking process, see the section entitled Public Participation.

Privacy Act: Anyone can search the electronic form of all comments received into any of our dockets by the name of the individual submitting the comment (or signing the comment, if submitted on behalf of an association, business, labor union, etc.). For information on DOT's compliance with the Privacy Act, please visit https://www.transportation.gov/privacy.

FOR FURTHER INFORMATION CONTACT: Michael C. Pucci, Office of the Chief Counsel, Division of Maritime Programs, (202) 366-5167 or via email at Michael.Pucci@dot.gov. Persons who use a telecommunications device for the deaf (TDD) may call the Federal Information Relay Service (FIRS) at 1-800-877-8339 to contact the above individual during business hours. The FIRS is available twenty-four hours a day, seven days a week, to leave a message or question. You will receive a reply during normal business hours. You may send mail to Department of Transportation, Maritime Administration, Office of the Chief Counsel, Division of Legislation and Regulations, W24-220, 1200 New Jersey Avenue SE, Washington, DC 20590-0001.

SUPPLEMENTARY INFORMATION:

Electronic Access and Filing

As required by 5 U.S.C. 553(b)(4), this document, including a summary of the rule, and all comments may be viewed online through the Federal eRulemaking portal at www.regulations.gov. An electronic copy of this document may also be downloaded by accessing the Office of the Federal Register's home page at: www.federalregister.gov.

Background

On May 1, 2019, MARAD published an Advanced Notice of Proposed Rulemaking (ANPRM), titled “How Best to Simplify Filing Statements of American Fisheries Act Citizenship: Policy and Regulatory Review,” in the Federal Register (84 FR 18469) soliciting public comment on steps MARAD could take to simplify and modernize the process for evidencing U.S. citizenship for owners of U.S.-flag fishing industry vessels of 100 feet or greater in registered length in order to reduce the regulatory burden for annual filers. MARAD has developed this NPRM based on recommendations we received in response to our request for comments to that ANPRM as well as recommendations we received in response to our ANPRM on reforming our Maritime Programs citizenship requirements titled “How to Best Evidence Corporate Citizenship: Policy and Regulatory Review” (Corporate Citizenship ANPRM) published in the Federal Register (84 FR 18468) on the same day.

MARAD welcomes your comments to ensure that agency programs benefit from current and comprehensive best practices.

Scope of Comments

MARAD is interested in learning how it could reduce or remove regulatory burdens on the public. Accordingly, commenters may want to focus on the following: (1) whether there are less burdensome methods to evidence corporate citizenship annually; (2) how those alternatives may be applied to improve MARAD program administration; and (3) how program participants will benefit from a revision of our AFA regulations.

Content of Comments

MARAD is interested in information on how any changes to these regulations could impact small businesses, either positively or negatively. In describing a burden placed on your organization by our regulations or potential changes to the regulations; direct experience and quantifiable data are more useful than anecdotal descriptions. If the commenter believes that there is a less burdensome alternative, the commenter should describe that alternative in detail.

Discussion of Comments Received on the ANPRM

In response to the agency's ANPRM seeking public comment on ways to simplify annual requirements to evidence citizenship under the American Fisheries Act, MARAD received one comment from Mr. William N. Myhre of K & L Gates, which included several recommendations. The agency responds as follows to the commenter's recommendations.

The commenter recommended MARAD consider permitting streamlined certifications for annual citizenship renewals when there has been no material change to the information contained in the prior year's AFA Affidavit.

MARAD agrees with this recommendation. Permitting an optional certification would reduce the burden of annual filing for those entities whose ownership information has not changed since the last AFA Affidavit was filed while not impacting MARAD's ability to make U.S. citizenship determinations. MARAD finds that such a certification would be consistent with the requirements of 46 U.S.C. 12113(e)(1) by incorporating by reference and certifying the citizenship information contained in the last AFA Affidavit submitted by the filer. In the proposed section 356.5(g), MARAD includes a provision for optional annual certification of citizenship information. MARAD proposes to enclose a copy of our form of annual certification with each annual fishery endorsement eligibility approval letter it issues to filers.

The commenter further suggested MARAD reconsider the regulatory requirements (46 CFR 356.5(g) and 356.13(b), respectively) for vessel owners to notify the Citizenship Approval Officer within 30 days of any change in the information set forth in the AFA Affidavit or with respect to documents required to be filed pursuant to 46 CFR 356.13. The commenter argued that these requirements place a significant burden on the vessel owner to review each of the various regulatory requirements on a monthly basis to ensure timely compliance and avoid risking loss of the fishing vessel's eligibility to operate in the domestic fishing industry.

MARAD disagrees. As the commenter notes, most AFA vessel owners are closely-held entities whose ownership does not change on an annual basis. Additionally, MARAD has not found that compliance with these requirements has affected owners' ability to maintain fishery endorsement eligibility for their vessels. As such, MARAD does not find the 30-day notification requirements to be burdensome or to represent an undue risk of loss of fishery endorsement eligibility.

The commenter also recommended updating the existing regulations to reflect current statutory citations that have changed since the regulations were implemented in 2000 and including a chart containing the documentary requirements for regulated transactions.

MARAD agrees. MARAD is proposing to amend part 356 to update its statutory citations. MARAD is planning to develop a chart of documentary requirements as guidance for publication on our AFA web page.

Additional Amendments

In response to the comments received in response to the May 1, 2019, Corporate Citizenship ANPRM (84 FR 18468), MARAD similarly proposes to amend the form of AFA Affidavit found at 46 CFR 356.5 with respect to those paragraphs (Nos. 4 and 5) applicable to direct and indirect owners that are publicly traded entities. Pursuant to 46 U.S.C. 12113(e)(2), the form of AFA Affidavit must conform to the extent practicable to the form of affidavit found at 46 CFR 355.2, which is the form used by participants to satisfy citizenship requirements of MARAD's promotional programs (e.g., Capital Construction Fund, Maritime Security Program, and vessel finance guarantees). As MARAD has found the form of affidavit at 46 CFR 355.2 to be outdated with respect to its provisions for publicly traded entities, MARAD is proposing to update that form of affidavit in a separate Notice of Proposed Rulemaking under Docket Number MARAD-2025-0087.

The proposed rule at section 356.7 would provide publicly traded entities flexibility in applying several reasonably available methods to ensure ongoing compliance with AFA ownership requirements, including satisfying the U.S. address requirement of the fair inference rule for determining the requisite percentage of U.S. ownership of outstanding stock. MARAD is not adjusting the current non-citizen ownership percentage limits of the fair inference method.

MARAD proposes eliminating requirements to provide social security numbers and dates and places of birth of corporate officers and directors in the affidavit of AFA citizenship provided at 46 CFR 356.5. Inclusion of this information in the affidavit of AFA citizenship does not significantly improve U.S. ownership certainty and creates an unnecessary risk of release of personally identifiable information. In any instance of doubt, MARAD still retains the authority to request such information from submitting parties.

Public Participation

How long do I have to submit comments?

We are providing a 60-day comment period.

How do I prepare and submit comments?

To ensure that your comments are correctly filed in the Docket, please include the Docket Number shown at the beginning of this document in your comments.

Comments may be submitted to the docket electronically by logging onto the Docket Management System website at http://www.regulations.gov. Search using the MARAD docket number and follow the online instructions for submitting comments.

Please note that pursuant to the Data Quality Act, for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://www.bts.gov/programs/statistical_policy_and_research/data_quality_guidelines.

How can I be sure that my comments were received?

If you wish Docket Management to notify you upon its receipt of your comments, enclose a self-addressed, stamped postcard in the envelope containing your comments. Upon receiving your comments, Docket Management will return the postcard by mail.

How do I submit confidential business information?

Confidential business information (CBI) is commercial or financial information that is both customarily and actually treated as private by its owner. Under the Freedom of Information Act (FOIA) (5 U.S.C. 552), CBI is exempt from public disclosure. If your comments responsive to the proposed rule contain commercial or financial information that is customarily treated as private, that you actually treat as private, and that is relevant or responsive to this proposed rule, it is important that you clearly designate the submitted comments as CBI. Please mark each page of your submission that constitutes CBI as “PROPIN” to indicate it contains proprietary information. MARAD will treat such marked submissions as confidential under the FOIA, and they will not be placed in the public docket of this proposed rule. Submissions containing CBI should be sent to the email address provided in the FOR FURTHER INFORMATION CONTACT section. In addition, you should submit two copies, from which you have deleted the claimed confidential business information, to Docket Management at the address given above under ADDRESSES. Any comments MARAD receives which are not specifically designated as CBI will be placed in the public docket for this rulemaking.

Will the agency consider late comments?

MARAD will consider all comments that Docket Management receives before the close of business on the comment closing date indicated above under DATES. To the extent possible, we will also consider comments that Docket Management receives after that date. If Docket Management receives a comment too late for us to consider in developing any follow-on action, we will consider that comment as an informal suggestion for future rulemaking action.

How can I read the comments submitted by other people?

You may read the comments received by Docket Management at the address given above under ADDRESSES. The hours of the Docket are indicated above in the same location. You may also see the comments on the internet. To read the comments on the internet, go to http://www.regulations.gov. Follow the online instructions for accessing the dockets.

Please note that, even after the comment closing date, MARAD will continue to file relevant information in the Docket as it becomes available. Further, some people may submit late comments. Accordingly, we recommend that you periodically check the Docket for new material.

Rulemaking Analysis and Notices

Executive Orders 12866 and DOT Rulemaking Procedures

Executive Order (E.O.) 12866 and the Department of Transportation's administrative rulemaking procedures set forth in 49 CFR part 5, subpart B, provide for making determinations whether a regulatory action is “significant” and therefore subject to Office of Management and Budget (OMB) review and to the requirements of E.O. 12866.

This rule is limited to streamlining annual renewal filing for vessel owners whose citizenship information has not changed since their most recent annual affidavit of U.S. citizenship (AFA Affidavit) filing, updating acceptable methods for evidencing citizenship of publicly traded entities, and eliminating requirements to provide personally identifiable information (i.e., social security numbers and dates and places of birth for corporate officers and directors) in affidavits of AFA citizenship.

This NPRM is not a significant regulatory action under Executive Order (E.O.) 12866 and DOT Order 2100.6B and, therefore it was not reviewed by OMB. It is also not considered a major rule for purposes of Congressional review under Public Law 104-121. This rule is limited to updating the citations, addresses, and modernizing text.

Executive Order 14192 (Deregulation)

E.O. 14192 requires that for “each new [E.O. 14192 regulatory action] issued, at least ten prior regulations be identified for elimination.” Implementation guidance for E.O. 14192, issued by OMB (Memorandum M-25-20, March 26, 2025), defines an E.O. 14192 deregulatory action as “an action that has been finalized and has total costs less than zero.” This rule will have total costs less than zero, and therefore is an E.O. 14192 deregulatory action.

Executive Order 13132 (Federalism)

MARAD analyzed this rulemaking in accordance with the principles and criteria contained in Executive Order 13132 (“Federalism”) and has determined that it does not have sufficient Federalism implications to warrant the preparation of a Federalism summary impact statement. This rulemaking has no substantial effect on the States, or on the current Federal-State relationship, or on the current distribution of power and responsibilities among the various local officials. Nothing in this document preempts any State law or regulation. Therefore, MARAD did not consult with State and local officials because it was not necessary.

Executive Order 13175 (Consultation and Coordination With Indian Tribal Governments)

MARAD does not believe that this rulemaking will significantly or uniquely affect the communities of Indian tribal governments when analyzed under the principles and criteria contained in Executive Order 13175 (Consultation and Coordination with Indian Tribal Governments). Therefore, the funding and consultation requirements of this Executive Order do not apply.

Regulatory Flexibility Act

The Regulatory Flexibility Act of 1980 requires MARAD to assess whether this rulemaking would have a significant economic impact on a substantial number of small entities and to minimize any adverse impact. This revision proposes to (1) simplify and streamline annual renewal filing for vessel owners whose citizenship information has not changed since their affidavit of U.S. citizenship (AFA Affidavit) filing; (2) update acceptable methods for evidencing citizenship of publicly traded entities; and (3) eliminate requirements to provide personally identifiable information (i.e., social security numbers and dates and places of birth for corporate officers and directors) in affidavits of AFA citizenship. These changes should be limited to decreasing the administrative burden for program applicants. MARAD certifies that this rulemaking will not have a significant economic impact on a substantial number of small entities.

Privacy Impact Assessment

Section 522(a)(5) of the Transportation, Treasury, Independent Agencies, and General Government Appropriations Act, 2005 (Pub. L. 108-447, div. H, 118 Stat. 2809 at 3268) requires the Department of Transportation and certain other federal agencies to conduct a privacy impact assessment of each proposed rule that will affect the privacy of individuals.

Unfunded Mandates Reform Act of 1995

The Unfunded Mandates Reform Act of 1995 requires Agencies to evaluate whether an agency action would result in the expenditure by State, local, and tribal governments, in the aggregate, or by the private sector, of $206 million or more (as adjusted for inflation) in any 1 year, and if so, to take steps to minimize these unfunded mandates. This rulemaking will not impose unfunded mandates under the Unfunded Mandates Reform Act of 1995. It will not result in costs of $206 million or more to either State, local, or tribal governments, in the aggregate, or to the private sector, and is the least burdensome alternative that achieves the objectives of the rule.

Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

Paperwork Reduction Act

The Paperwork Reduction Act of 1995 (44 U.S.C. 3501-3520) (PRA) requires that DOT consider the impact of paperwork and other information collection burdens imposed on the public. This proposed rule would likely result in a reduction in the burden hours required for information collection 2133-0530, Requirements for Vessels of 100 Feet or Greater in Registered Length to Obtain a Fishery Endorsement to the Vessel's Documentation—46 CFR 356, because changes to the regulation will shorten the time and effort to evidence citizenship for many first-time applicants as well as those that must recertify. We expect that the information collection requirement under this proposed rule would reduce the “hours per response” from 11 hours to 8.5 hours resulting in a 23% reduction in burden hours annually and having a net cost saving of $22,086.40 annually across 500 respondents. We request comments on this issue.

Notwithstanding any other provision of law, a person is not required to respond to a collection of information by a federal agency unless the collection displays a valid OMB control number.

List of Subjects in 46 CFR Part 356

Citizenship and naturalization, Fishery endorsement, Fishing vessels, Mortgages, Mortgage trustee, Penalties, Preferred mortgages, Reporting and recordkeeping requirements, Vessels.

For the reasons described in the preamble, MARAD proposes to amend 46 CFR part 356 as set forth below:

PART 356—REQUIREMENTS FOR VESSELS OF 100 FEET OR GREATER IN REGISTERED LENGTH TO OBTAIN A FISHERY ENDORSEMENT TO THE VESSEL'S DOCUMENTATION

1. The authority for part 356 continues to read as follows:

Authority: 46 U.S.C. 12102; 46 U.S.C. 12151; 46 U.S.C. 31322; Pub. L. 105-277, division C, title II, subtitle I, section 203 (46 U.S.C. 12102 note), section 210(e), and section 213(g), 112 Stat. 2681; Pub. L. 107-20, section 2202, 115 Stat. 168-170; Pub. L. 114-74; 49 CFR 1.93.

Subpart A—General Provisions

§ 356.3 [Amended]

2A. In 46 CFR 356.3

a. Remove paragraph (a).

b. Paragraphs (b) through (z) are redesignated as paragraphs (a) through (y).

c. In paragraph (d)(1), remove “46 U.S.C. 12102(c) and section 2(c) of the 1916 Act, 46 App. U.S.C. 802(c)” and add, in its place, “46 U.S.C. 12113 and 46 U.S.C. 50501(d)”.

d. In paragraph (d)(iv)(C), remove “46 U.S.C. 12102(c)” and add, in its place, “46 U.S.C. 12113(c)”.

e. In paragraph (e), remove “Maritime Administration, United States Department of Transportation, Citizenship Approval Officer, MAR-220, Room 7232, 400 7th Street SW, Washington, DC 20590” and add, in its place, “Citizenship Approval Officer, Office of Chief Counsel, Maritime Administration, United States Department of Transportation, 1200 New Jersey Avenue SE, Washington, DC 20590.”

f. In paragraph (g)(1), remove “section 2(b) of the 1916 Act, 46 App. U.S.C. 802(b)” and add, in its place, “46 U.S.C. 50501(c)”.

g. In paragraph (q), remove “46 U.S.C. 12102(c) and section 2(c) of the 1916 Act, 46 App. U.S.C. 802(c)” and add, in its place, “46 U.S.C. 12113(c) and 46 U.S.C. 50501(d)”.

h. In paragraph (t)(1), remove “46 U.S.C. 12102(c)” and add, in its place, “46 U.S.C. 12113(c)”.

i. In paragraph (t)(5), remove “46 U.S.C. 12102(a)” and add, in its place, “46 U.S.C. 12103”.

* * * * *

§ 356.5 [Amended]

2. In § 356.5

a. In paragraph (a), remove “section 2(c) of the 1916 Act, or where applicable, section 2(b) of the 1916 Act” and add, in its place, “46 U.S.C. 50501(d), or where applicable, 46 U.S.C. 50501(c)”.

b. In paragraph (c), remove “section 2(c) of the 1916 Act and 46 App. U.S.C. 12102(c)” and add, in its place, “46 U.S.C. 50501(d) and 46 U.S.C. 12113(c)”.

3. In § 356.5(d) revise as follows:

§ 356.5(d) The prescribed form of the Affidavit of U.S. Citizenship is as follows:

State of __________)

) ss.:

County of __________)

I, (Name), of (Physical residence address, city, and state), being duly sworn, depose and say:

1. That I am the (Title of office(s) held) of (Name of Corporation), a corporation organized and existing under the laws of the State of ___ (hereinafter called the “Corporation”), with offices at (Business address), in evidence of which incorporation a certified copy of the Articles or Certificate of Incorporation (or Association) is filed herewith (or has been filed) together with a certified copy of the corporate Bylaws. [Evidence of continuing U.S. citizenship status, including amendments to said Articles or Certificate and Bylaws, should be filed within 45 days of the annual documentation renewal date for vessel owners. Other parties required to provide evidence of U.S. citizenship status must file within 30 days after the annual meeting of the stockholders or annually, within 30 days after the original affidavit if there has been no meeting of the stockholders prior to that time.];

2. That I am authorized by and in behalf of the Corporation to execute and deliver this Affidavit of U.S. Citizenship;

3. That the names of the Chief Executive Officer, by whatever title, the Chairman of the Board of Directors, all Vice Presidents, or other individuals who are authorized to act in the absence or disability of the Chief Executive Officer or Chairman of the Board of Directors, and the Directors of the Corporation are as follows: ¹

¹ Offices that are currently vacant should be noted when listing Officers and Directors in the Affidavit.

Name Title

__________

Name Title

(The foregoing list should include the officers, whether or not they are also directors, and all directors, whether or not they are also officers.) Each of said individuals is a Citizen of the United States by virtue of birth in the United States, birth abroad of U.S. citizen parents, by naturalization, or as otherwise authorized by law, except (give name and nationality of all Non-Citizen officers and directors, if any). The By-laws of the Corporation provide that (Number) of the directors are necessary to constitute a quorum; therefore, the Non-Citizen directors named represent no more than a minority of the number necessary to constitute a quorum.

[Note: Select and complete the applicable paragraph 4 describing the Corporation's stock ownership and strike inapplicable paragraphs 4.]

4. Information as to stock, where Corporation has 30 or more stockholders:

That I have access to the stock books and records of the Corporation; that said stock books and records have been examined and disclose (a) that, as of (Date), the Corporation had issued and outstanding (Number) shares of (Class), the only class of stock of the Corporation issued and outstanding [if such is the case], owned of record by (Number) stockholders, said number of stockholders representing the ownership of the entire issued and outstanding stock of the Corporation, and (b) that no stockholder owned of record as of said date five per centum (5%) or more of the issued and outstanding stock of the Corporation of any class. [If different classes of stock exist, give the same information for each class issued and outstanding, showing the monetary value and voting rights per share in each class. If there is an exception to the statement in clause (b), the name, address, and citizenship of the stockholder and the amount and class of stock owned should be stated and the required citizenship information on such stockholder must be submitted.] That the registered addresses of (Number) owners of record of (Number) shares of the issued and outstanding (Class) stock of the Corporation are shown on the stock books and records of the Corporation as being within the United States, said ___ shares being ___ per centum (___%) of the total number of shares of said stock (each class). [The exact figure as disclosed by the stock books of the corporation must be given and the per centum figure must not be less than 65 per centum for a state or federally chartered financial institution holding a Preferred Mortgage, or not less than 95 per centum for an entity that is demonstrating ownership in a vessel for which a fishery endorsement is sought or a Mortgage Trustee. These per centum figures apply to corporate stockholders as well as to the primary corporation.] (The same statement should be made with reference to each class of stock, if there is more than one class.);

4. Information as to stock, where Corporation has less than 30 stockholders: That the information as to stock ownership, upon which the Corporation relies to establish that 75% of the stock ownership is vested in Citizens of the United States, is as follows:

Name of Stockholder | Number of shares owned (each class) | Percentage of shares owned (each class)
Name | Number and Class | Number and Class

and that each of said individual stockholders is a Citizen of the United States by virtue of birth in the United States, birth abroad of U.S. citizen parents, by naturalization during minority through the naturalization of a parent, by marriage (if a woman) to a U.S. citizen prior to September 22, 1922, or as otherwise authorized by law. Note: If a corporate stockholder, give information with respect to State of incorporation, the names of the officers, directors, and stockholders and the appropriate percentage of shares held, with statement that they are all U.S. citizens. Nominee holders of record of 5% or more of any class of stock and the beneficial owners thereof should be named and their U.S. citizenship information submitted to MARAD.

4. Information as to stock, where Corporation's shares are publicly traded on a U.S. stock exchange:

That the Corporation has diligently employed, administered, and adhered to methods such as those identified at 46 CFR 356.5(g) to monitor the Corporation's stock ownership; and that, based on the foregoing, the percentage of shares of the Corporation owned by Citizens of the United States is 75% or greater.

5. That 75% of the interest in (each) said Corporation, as established by the information hereinbefore set forth, is owned by Citizens of the United States; that the title to 75% of the stock of (each) class of the stock of (each) said Corporation is vested in Citizens of the United States free from any trust or fiduciary obligation in favor of any person not a Citizen of the United States; that such proportion of the voting power of (each) said Corporation is vested in Citizens of the United States; that through no contract or understanding is it so arranged that more than 25% of the voting power of (each) said Corporation may be exercised, directly or indirectly, in behalf of any person who is not a Citizen of the United States; and that by no means whatsoever, is any interest in said Corporation in excess of 25% conferred upon or permitted to be exercised by any person who is not a Citizen of the United States; and

[Note: For state or federally chartered financial institutions acting as Preferred Mortgagees, the Controlling Interest language, which is set forth below, is applicable.]

5. That the Controlling Interest in (each) said Corporation, as established by the information hereinbefore set forth, is owned by Citizens of the United States; that the title to a majority of the stock of (each) said Corporation is vested in Citizens of the United States free from any trust or fiduciary obligation in favor of any person not a Citizen of the United States; that such proportion of the voting power of (each) said Corporation is vested in Citizens of the United States; that through no contract or understanding is it so arranged that the majority of the voting power of (each) said Corporation may be exercised, directly or indirectly, in behalf of any person who is not a Citizen of the United States; and that by no means whatsoever, is control of (each) said Corporation conferred upon or permitted to be exercised by any person who is not a Citizen of the United States; and

6. That the affiant has submitted all the necessary documentation required under 46 CFR 356.13 in connection with this Affidavit of U.S. Citizenship for the following vessel(s):

Vessel Name: Official Number:

1.

2.

[Note: Paragraph 6 should be included in the Affidavit of U.S. Citizenship submitted by an entity that owns a Fishing Industry Vessel.]

7. That affiant has carefully examined this Affidavit and asserts that all the statements and representations contained therein are true to the best of their knowledge, information, and belief.

(Name and title of affiant)

(Signature of affiant)

Date

Penalty for False Statement: A fine or imprisonment, or both, are provided for violation of the proscriptions contained in 18 U.S.C. 1001 (see also, 18 U.S.C. 286, 287 and 46 U.S.C. 12151).

4. In § 356.5 revise paragraph (g) to read as follows:

§ 356.5(g) It is incumbent upon the parties filing affidavits under this part to notify the Citizenship Approval Officer in writing within 30 calendar days of any changes in information last furnished with respect to the officers, directors, and stockholders, including 5 percent or more stockholders of the issued and outstanding stock of each class, together with information concerning their citizenship status. If other than a corporation, comparable information must be filed by other entities owning the Fishing Industry Vessel, including any entity whose ownership interest is being relied upon to establish 75% ownership by Citizens of the United States; (2) if the information contained in an owner's most recent affidavit of citizenship filing has not changed, as an alternative to submitting an annual affidavit of citizenship under this part, a party may file a certification with the Maritime Administration. The certification should be substantially in the following format:

“I,___, [Title] of [Name of Corporation] (“Corporation”), being duly authorized by the Corporation, certify to you that there have been no changes to the ownership information contained in the affidavit of citizenship filed with the Maritime Administration on [Date].”

This certification is subject to penalty for false statement. A fine or imprisonment, or both, are provided for violation of the proscriptions contained in 18 U.S.C. 1001 (see also, 18 U.S.C. 286, 287 and 46 U.S.C. 12151).

§ 356.7 [Amended]

5. In § 356.7

(a) Revise paragraph (c) to read as follows:

§ 356.7(c):

(c) The “fair inference method” is used by corporations whose stock is publicly traded or is held by more than 30 stockholders.

(1) Use of the fair inference method for a publicly traded corporation requires that:

(i) At least 95 percent of the stock (each class) of the corporation be held directly or beneficially by Persons having a U.S. address in order to infer at least 75 percent ownership by U.S. Citizens; and

(ii) For determining the requisite percentage of stockholders with U.S. addresses, the corporation may rely on the methods outlined in § 356.7(e);

(2) Use of the fair inference method for a non-publicly traded corporation with more than 30 stockholders requires that:

(i) At least 95 percent of the stock (each class) of the corporation be held by Persons having a registered U.S. address in order to infer at least 75 percent ownership by U.S. Citizens; and

(ii) Disclosure be made in the Affidavit of U.S. Citizenship of the names and citizenship of any stockholders who hold five percent or more of the corporation's stock (including all classes of stock, voting and non-voting), officers, and directors.

(b) Add a paragraph (e) to read as follows:

§ 356.7(e) If the corporation is publicly traded, the corporation may employ any number or combination of methods to measure, monitor, determine, and affirm the required percentage of U.S. citizen share ownership for the primary corporation, including the following:

(i) Use of the Depository Trust Company segregated account (or “SEG-100”) system;

(ii) Monitoring Securities and Exchange Commission filings for 5% holders (Schedules 13D, 13G, Form 13F) and requesting citizenship information from those filers;

(iii) Use of protective provisions in organizational documents in order to guard against and rectify the possibility of excess non-citizen share ownership;

(iv) Communications with Non-Objecting Beneficial Owners (or “NOBOs”);

(v) Geographic surveys of shareholder addresses provided by proxy service providers;

(vi) Analysis of registered stockholders and use of dual stock certificates; and

(vii) Alternative methods upon written approval of the Citizenship Approval Officer.

§ 356.19 [Amended]

7. In § 356.19:

(a) In paragraph (a)(5), remove “12102(a)” and, in its place, add “12103”.

(b) In paragraph (b)(1), remove “46 U.S.C. 12102(c) and section 2(c) of the 1916 Act” and, in its place, add “46 U.S.C. 12113 and 46 U.S.C. 50501(d)”.

(c) In paragraph (b)(6), remove “12102(c)” and, in its place, add “12113”.

§ 356.25 [Amended]

8. In § 356.25:

(a) In paragraph (e), remove “section 2(c) of the 1916 Act, 46 App. U.S.C. 802(c) and 46 U.S.C. 12102(c)” and, in its place, add “46 U.S.C. 12113 and 46 U.S.C. 50501(d)”.

§ 356.51 [Amended]

9. In § 356.51(a), remove “12102(c)” and, in its place, add “12113”.

§ 356.53 [Amended]

10. In § 356.53, remove “Room 7228, 400 7th Street, SW” and in its place, add “Mail Stop #4, 1200 New Jersey Avenue SE”.

(Authority: 46 U.S.C. 12113(e), 12151, 31322, 49 CFR 1.93)

By order of the Maritime Administration.
T. Mitchell Hudson, Jr.,
Secretary, Maritime Administration.

[FR Doc. 2025-12087 Filed 6-27-25; 4:15 pm]

BILLING CODE 4910-81-P